DEPARTMENT OF EDUCATION

Teaching American History Grant Program

Catalog of Federal Domestic Assistance (CFDA) Number 84.215X.

AGENCY: Office of Innovation and Improvement, Department of Education.

ACTION: Notice of proposed revisions to selection criteria.

SUMMARY: The Assistant Deputy Secretary for Innovation and Improvement proposes to amend the final selection criteria governing the Teaching American History Grant Program (TAH) as published in the notice of final selection criteria and other application requirements (2005 Notice) in the Federal Register on April 15, 2005 (70 FR 19939). The 2005 Notice required the Secretary to use specific selection criteria when evaluating grant applications for the TAH program. The changes proposed in this notice would allow the Secretary to use an approach similar to that in 34 CFR 75.200 for establishing selection criteria in grant competitions. That is, the Secretary would have the flexibility to use selection criteria (i) established for the TAH program in the 2005 Notice, (ii) from the menu of general selection criteria in the Education Department General Administrative Regulations (EDGAR) in 34 CFR 75.210, (iii) based on statutory provisions in accordance with 34 CFR 75.209, or (iv) from any combination of (i) through (iii) for competitions in fiscal year (FY) 2009 and in subsequent years.

DATES: We must receive your comments on or before November 28, 2008.

ADDRESSES: Address all comments about this notice to Mia Howerton, U.S. Department of Education, 400 Maryland Avenue, SW., Room 4W212, Washington, DC 20202-5960.

If you prefer to send your comments by e-mail, use the following address: Mia.Howerton@ed.gov. You must include the term “Teaching American History” in the subject line of your electronic message.

FOR FURTHER INFORMATION CONTACT: Mia Howerton. Telephone: (202) 205-0147 or e-mail: Mia.Howerton@ed.gov.

If you use a telecommunications device for the deaf (TDD), call the Federal Relay Service (FRS), toll free, at 1-800-877-8339.

SUPPLEMENTARY INFORMATION: Invitation to Comment: We invite you to submit comments regarding this notice. We invite you to assist us in complying with the specific requirements of Executive Order 12866 and its overall requirement of reducing regulatory burden that might result from this regulatory action. Please let us know of any further ways we could reduce potential costs or increase potential benefits while preserving the effective and efficient administration of the program.

During and after the comment period, you may inspect all public comments on this notice in room 4W212, 400 Maryland Avenue, SW., Washington, DC, between the hours of 8:30 a.m. and 4 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this regulatory action. If you want to schedule an appointment for this type of accommodation or auxiliary aid, please contact the person listed under FOR FURTHER INFORMATION CONTACT.

Purpose of Program: TAH is authorized under Title II, Part C, Subpart 4 of the Elementary and Secondary Education Act of 1965, as amended by the No Child Left Behind Act of 2001. The goal of the TAH program is to support activities that raise student achievement by improving teachers' knowledge, understanding, and appreciation of American history.

Program Authority: 20 U.S.C. 6721-6722.

Proposed Selection Criteria

Background

The Department's regulations in EDGAR govern, among other things, the Department's use of selection criteria to evaluate discretionary grant applications. Under § 75.200, the Secretary may use selection criteria based on statutory provisions in accordance with 34 CFR 75.209, selection criteria in program-specific regulations, selection criteria established under 34 CFR 75.210, or any combination of these. Section 75.210 provides a menu of selection criteria. For a competition, the Department selects from the menu one or more criteria that best enable us to identify the highest-quality applications consistent with the program purpose, statutory requirements, and any priorities established. Within each criterion, the Secretary may further define the criterion by selecting one or more specific factors.

The 2005 Notice established specific selection criteria by which the Department would evaluate TAH applications (Project Quality, Significance, Quality of Project Evaluation, and Quality of Management Plan) and other application requirements.

After using these specific criteria for the last three years, we have determined that the Department needs greater flexibility in using selection criteria to evaluate TAH program applications. Accordingly, we are proposing in this notice that, in addition to the criteria established for the TAH program in the 2005 Notice, the Secretary also may use selection criteria under § 75.210 and criteria based on the program statute under § 75.209, or any combination of these criteria for the purpose of evaluating grant applications under the TAH program. We believe that by expanding the range of selection criteria that could be used in a specific grant competition, we will be able to administer the TAH program more effectively, better meet the program's statutory purposes and requirements, and better ensure that TAH projects are improving teacher content knowledge of traditional American history and improving student achievement in history.

Proposed Revision to Selection Criteria

The Assistant Deputy Secretary for Innovation and Improvement proposes that in addition to the selection criteria established in the 2005 Notice, the Secretary may use any of the selection criteria in § 75.210, criteria based on statutory requirements under § 75.209, or any combination of these when establishing selection criteria for a particular TAH competition. We may apply one or more of these criteria in any year in which this program is in effect. In the notice inviting applications or the application package, or both, we will announce the maximum possible points assigned to each criterion.

Note: This notice does not solicit applications. In any year in which we choose to use one or more selection criteria, we invite applications through a notice in the Federal Register.

Executive Order 12866

Potential Costs and Benefits

Under Executive Order 12866, we have assessed the potential costs and benefits of this regulatory action.

The potential costs associated with this proposed regulatory action are those resulting from statutory requirements and those we have determined to be necessary for administering this program effectively and efficiently.

In assessing the potential costs and benefits—both quantitative and qualitative—of this regulatory action, we have determined that the benefits would justify the costs.

We have also determined that this regulatory action would not unduly interfere with State, local, and tribal governments in the exercise of their governmental functions.

Summary of Potential Costs and Benefits

This proposed regulatory action affects only local educational agencies (LEAs) that are applying for assistance under the TAH program. This regulatory action would create flexibility for the Department to use selection criteria, other than those published in the 2005 Notice, for the 2009 TAH grant competition and those in subsequent years. We believe that any criterion from 34 CFR 75.209 or 34 CFR 75.210 that would be used in a future grant competition would not impose a financial burden that LEAs would not otherwise incur in the development and submission of a grant application under the TAH program and, under some circumstances, could reduce the financial burden of preparing a TAH grant application by a modest amount if, for example, the use of this flexibility resulted in fewer criteria or factors to be addressed in a grant application.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Alternative Format: Individuals with disabilities can obtain this document in an alternative format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/teachinghistory/index.html.

Note: The official version of this document is the document published in the Federal Register. Free Internet access to the official edition of the Federal Register and the Code of Federal Regulations is available on GPO Access at: http://www.gpoaccess.gov/nara/index.html.

Dated: October 24, 2008.
Douglas B. Mesecar,
Assistant Deputy Secretary for Innovation and Improvement.

[FR Doc. E8-25811 Filed 10-28-08; 8:45 am]

BILLING CODE 4000-01-P